DEPARTMENT OF LABOR

Employment and Training Administration

[TA-W-55,938]

Concept Plastics, Inc., High Point, NC; Notice of Termination of Investigation

Pursuant to Section 221 of the Trade Act of 1974, as amended, an investigation was initiated on November 4, 2004 in response to a worker petition filed by a company official on behalf of workers at Concept Plastics, Inc., High Point, North Carolina.

The petitioner has requested that the petition be withdrawn. Consequently, further investigation would serve no purpose and the investigation has been terminated.

Signed at Washington, DC this 13th day of December, 2004.
Elliott S. Kushner,
Certifying Officer, Division of Trade Adjustment Assistance.

[FR Doc. E5-249 Filed 1-21-05; 8:45 am]

BILLING CODE 4510-30-P